SMALL BUSINESS ADMINISTRATION

[Disaster Declaration No. 10137 and No. 10138]

Florida Disaster Number FL-00005

AGENCY: U.S. Small Business Administration.

ACTION: Amendment 1.

SUMMARY: This is an amendment of the Presidential declaration of a major disaster for the State of Florida (FEMA-1595-DR), dated 7/10/2005.

Incident: Hurricane Dennis.

Incident Period: 7/10/2005 and continuing.

DATES: Effective Date: 7/13/2005.

Physical Loan Application Deadline Date: 9/08/2005.

EIDL Loan Application Deadline Date: 4/10/2006.

ADDRESSES: Submit completed loan applications to:

U.S. Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the Presidential disaster declaration for the State of Florida, dated 7/10/2005, is hereby amended to include the following areas as adversely affected by the disaster:

Primary Counties:

Bay, Franklin, Gulf, Okaloosa, Wakulla, and Walton.

Contiguous Counties:

Florida: Calhoun, Holmes, Jackson, Jefferson, Leon, Liberty, and Washington.

Alabama: Covington and Geneva.

All other information in the original declaration remains unchanged.

(Catalog of Federal Domestic Assistance Numbers 59002 and 59008)
Herbert L. Mitchell,
Associate Administrator for Disaster Assistance.

[FR Doc. 05-14468 Filed 7-21-05; 8:45 am]

BILLING CODE 8025-01-P